DEPARTMENT OF ENERGY

Federal Energy Regulatory Commission

Combined Notice of Filings #2

Take notice that the Commission received the following exempt wholesale generator filings:

Docket Numbers: EG16-88-000.

Applicants: Blythe Solar II, LLC.

Description: Notice of Self-Certification of Exempt Wholesale Generator Status of Blythe Solar II, LLC.

Filed Date: 4/25/16.

Accession Number: 20160425-5232.

Comments Due: 5 p.m. ET 5/16/16.

Take notice that the Commission received the following electric rate filings:

Docket Numbers: ER10-2997-004; ER12-2178-015; ER10-2172-027; ER14-2144-006; ER12-2311-014; ER10-3003-004; ER10-2179-031; ER11-2016-020; ER10-2184-026; ER10-1048-024; ER10-2192-027; ER15-1537-004; ER15-1539-004; ER11-2056-020; ER10-2178-027; ER14-1524-007; ER11-2014-023; ER11-2013-023; ER10-3308-024; ER10-3018-004; ER10-3015-004; ER10-1020-022; ER13-1536-011; ER10-1078-022; ER10-1080-022; ER11-2010-024; ER10-1081-023; ER15-2293-001; ER10-3016-004; ER14-2145-005; ER10-2180-026; ER12-2201-014; ER11-2011-023; ER12-2528-013; ER11-2009-023; ER11-3989-019; ER10-2181-031; ER10-1143-023; ER10-2992-004; ER10-3030-004; ER10-2990-004; ER10-2182-031; ER10-1829-002; ER11-2007-020; ER12-1223-019; ER11-2005-023.

Applicants: Atlantic City Electric Company, AV Solar Ranch 1, LLC, Baltimore Gas and Electric Company, Beebe 1B Renewable Energy, LLC, Beebe Renewable Energy, LLC, Bethlehem Renewable Energy LLC, Calvert Cliffs Nuclear Power Plant, LLC, Cassia Gulch Wind Park, LLC, CER Generation, LLC, Commonwealth Edison Company, Constellation Energy Commodities Group Maine, LLC, Constellation Energy Services, Inc., Constellation Energy Services of New York, Inc., Constellation Mystic Power, LLC, Constellation NewEnergy, Inc., Constellation Power Source Generation, LLC, Cow Branch Wind Power, LLC, CR Clearing, LLC, Criterion Power Partners, LLC, Delmarva Power & Light Company, Eastern Landfill Gas, LLC, Exelon Framingham, LLC, Exelon Generation Company, LLC, Exelon New Boston, LLC, Exelon West Medway, LLC, Exelon Wind 4, LLC, Exelon Wyman, LLC, Fair Wind Power Partners, LLC, Fauquier Landfill Gas, LLC, Fourmile Wind Energy, LLC, Handsome Lake Energy, LLC, Harvest II Windfarm, LLC, Harvest WindFarm, LLC, High Mesa Energy, LLC, Michigan Wind 1, LLC, Michigan Wind 2, LLC, Nine Mile Point Nuclear Station, LLC, PECO Energy Company, Pepco Energy Services, Inc., Potomac Electric Power Company, Potomac Power Resources, LLC, R.E. Ginna Nuclear Power Plant, LLC, Shooting Star Wind Project, LLC, Tuana Springs Energy, LLC, Wildcat Wind, LLC, Wind Capital Holdings, LLC.

Description: Notice of Change in Status of the Exelon MBR Entities, et al.

Filed Date: 4/22/16.

Accession Number: 20160422-5293.

Comments Due: 5 p.m. ET 5/13/16.

Docket Numbers: ER15-2679-004.

Applicants: Latigo Wind Park, LLC.

Description: Notice of Non-Material Change in Status of Latigo Wind Park, LLC.

Filed Date: 4/25/16.

Accession Number: 20160425-5190.

Comments Due: 5 p.m. ET 5/16/16.

Docket Numbers: ER16-1492-000.

Applicants: NorthWestern Corporation.

Description: Initial rate filing: SA 779—Relocation Agreement with Stillwater County—West Rosebud Creek Road to be effective 4/26/2016.

Filed Date: 4/25/16.

Accession Number: 20160425-5127.

Comments Due: 5 p.m. ET 5/16/16.

Docket Numbers: ER16-1493-000.

Applicants: Southern California Edison Company.

Description: § 205(d) Rate Filing: Amend LGIA Big Sky Solar Project to be effective 4/26/2016.

Filed Date: 4/25/16.

Accession Number: 20160425-5159.

Comments Due: 5 p.m. ET 5/16/16.

Docket Numbers: ER16-1494-000.

Applicants: Southern California Edison Company.

Description: § 205(d) Rate Filing: 2016 Revised Added Facilities Rate under TO—Filing No. 2 to be effective 1/1/2016.

Filed Date: 4/25/16.

Accession Number: 20160425-5174.

Comments Due: 5 p.m. ET 5/16/16.

Docket Numbers: ER16-1495-000.

Applicants: Empire State Connector Corporation.

Description: Application for Authority to Sell Transmission Rights at Negotiated Rates of Empire State Connector Corporation.

Filed Date: 4/25/16.

Accession Number: 20160425-5221.

Comments Due: 5 p.m. ET 5/16/16.

Docket Numbers: ER16-1496-000.

Applicants: Canadian Hills Wind, LLC.

Description: § 205(d) Rate Filing: Revised Market-Based Rate Tariff to be effective 6/25/2016.

Filed Date: 4/25/16.

Accession Number: 20160425-5264.

Comments Due: 5 p.m. ET 5/16/16.

Docket Numbers: ER16-1497-000.

Applicants: Comanche Solar PV, LLC.

Description: § 205(d) Rate Filing: Revised Market-Based Rate Tariff to be effective 6/25/2016.

Filed Date: 4/25/16.

Accession Number: 20160425-5265.

Comments Due: 5 p.m. ET 5/16/16.

Docket Numbers: ER16-1498-000.

Applicants: South Carolina Electric & Gas Company.

Description: § 205(d) Rate Filing: Orangeburg PSA Depreciation Update Filing to be effective 4/25/2016.

Filed Date: 4/25/16.

Accession Number: 20160425-5284.

Comments Due: 5 p.m. ET 5/16/16.

Docket Numbers: ER16-1499-000.

Applicants: Commonwealth Edison Company, PJM Interconnection, L.L.C.

Description: § 205(d) Rate Filing: ComEd submits revisions to OATT Att. H-13A re: Recovery for Loretto-Wilton Proj to be effective 4/25/2016.

Filed Date: 4/25/16.

Accession Number: 20160425-5287.

Comments Due: 5 p.m. ET 5/16/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 25, 2016.
Nathaniel J. Davis, Sr.,
Deputy Secretary.

[FR Doc. 2016-10081 Filed 4-28-16; 8:45 am]

BILLING CODE 6717-01-P